DEPARTMENT OF TRANSPORTATION

Federal Motor Carrier Safety Administration

[Docket No. FMCSA 2013-0348]

Agency Information Collection Activities; Revision of a Currently Approved Collection: Practices of Household Goods Brokers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. FMCSA requests approval to revise an ICR titled “Practices of Household Brokers” to no longer include one-time costs previously incurred by brokers to come into compliance with 49 CFR part 371, and to update other wage related costs that have changed since the last approval. This ICR is necessary to support the requirements of subpart B of 49 CFR part 371 and FMCSA's responsibility to ensure consumer protection in the transportation of household goods (HHG). On November 13, 2013, FMCSA published a Federal Register notice allowing for a 60-day comment period on this ICR. The agency received no comments in response to that notice.

DATES: Please send your comments to this notice by March 17, 2014. OMB must receive your comments by this date to act quickly on the ICR.

ADDRESSES: All comments should reference Federal Docket Management System (FDMS) Docket Number FMCSA-2013-0348. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Mr. Brodie Mack, Commercial Enforcement and Investigations Division, Household Goods Team Leader, U. S. Department of Transportation, Federal Motor Carrier Safety Administration, West Building 6th Floor, 1200 New Jersey Avenue SE., Washington, DC 20590-0001. Telephone: 202-366-8045; email brodie.mack@dot.gov.

SUPPLEMENTARY INFORMATION: Title: Practices of Household Goods Brokers.

OMB Control Number: 2126-0048.

Type of Request: Revision of a currently approved collection.

Respondents: Brokers of Household Goods.

Estimated Number of Respondents: 690.

Estimated Time per Response: 15 minutes per day × 240 workdays for household goods broker transactions; 8 hours per year × 125 new entrants for separate accounting system; 20 hours per year × 690 brokers of household goods for Web site/ad modifications; 10 hours per year × 690 brokers of household goods for creating a list of carriers; 0.5 hours per month × 12 months × 690 brokers of household goods for confirming required information; 0.083 hour per year × 20,000 explanations; 4 hours per year × 5 agreements × 690 brokers of household goods for annual agreements through turnover; and 10 hours per year × 690 brokers of household goods for disclosure and records.

Expiration Date: February 28, 2014.

Frequency of Response: On occasion.

Estimated Total Annual Burden: 89,607 hours.

Background: FMCSA, in response to Title IV, Subtitle B of the Safe, Accountable, Flexible, Efficient, Transportation Equity Act: A Legacy for Users (SAFETEA-LU) (Pub. L. 109-59) and a petition for rulemaking from the American Moving and Storage Association (AMSA), amended 49 CFR part 371, existing regulations for brokers, with a Final Rule titled, “Brokers of Household Goods Transportation by Motor Vehicles, (75 FR 72987), November 29, 2010, providing additional consumer protection responsibilities for brokers of HHG.

Section 4212 of SAFETEA-LU directs the Secretary to require HHG brokers to provide individual shippers with the following information whenever a broker has contact with a shipper or potential shipper:

1. The broker's USDOT number.

2. The FMCSA booklet titled “Your Rights and Responsibilities When You Move.”

3. A list of all authorized motor carriers providing transportation of HHG used by the broker and a statement that the broker is not a motor carrier providing transportation of HHG.

FMCSA, as the result of a rulemaking that took effect November 29, 2010, amended 49 CFR part 371 by adding subpart B, specific consumer protection requirements for HHG brokers. The collection of information required by this rulemaking assists shippers in their business dealings with interstate HHG brokers. The information collected is used by prospective shippers to make informed decisions about contracts and services ordered, executed, and settled. The HHG broker is often the primary contact for individual shippers and in the best position to educate shippers and prepare them for a successful move. The information collected makes that possible. To combat deceptive business practices, this helps enforcement personnel better protect consumers by verifying that shippers are receiving information they are entitled to by regulation.

HHG brokers are required to provide individual shippers the “Your Rights and Responsibilities When You Move” booklet and the “Ready to Move” brochure. They have the option of providing paper copies or presenting the information through a link on their Internet Web site. The broker is required to document with signed receipts that the individual shipper was provided those materials. HHG brokers are also required to provide the list of HHG motor carriers for which it would arrange transportation to move a potential individual shipper's HHG, and that broker's identification information:

1. Assigned USDOT number; and

2. Address.

Public Comments Invited

FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued under the authority delegated in 49 CFR 1.87 on: February 6, 2014.
G. Kelly Leone,
Associate Administrator, Office of Research and Information Technology and Chief Information Officer.

[FR Doc. 2014-03356 Filed 2-13-14; 8:45 am]

BILLING CODE 4910-EX-P